DEPARTMENT OF HEALTH AND HUMAN SERVICES

[Document Identifier OS-0990-New]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 3, 2018.

ADDRESSES: Submit your comments to Sherrette.Funn@hhs.gov or by calling (202) 795-7714.

FOR FURTHER INFORMATION CONTACT: When submitting comments or requesting information, please include the document identifier 0990-New-60D and project title for reference, to Sherrette.funn@hhs.gov, or call 202-795-7714, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Fertility Knowledge Survey.

Type of Collection: OMB No. 0990-NEW—Office of the Assistant Secretary for Health (OASH).

Abstract: The Office of the Assistant Secretary for Health/Office of Population Affairs (OPA) is seeking an approval by the Office of Management and Budget on a new information collection. We seek to collect information to increase understanding of (1) adolescent and young adult knowledge of human (female and male) fertility and (2) how this knowledge is related to behaviors and intentions involving childbearing. We propose to collect this information through a 20-minute web survey (Fertility Knowledge Survey) of 2,100 females and 1,900 males, aged 15 to 29 years, using an online panel that is based on a probability-based sample of the U.S. population. The survey will produce evidence and findings that are expected to be generalizable to the population of English-speaking females and males aged 15 to 29 years in the United States.

Possessing accurate knowledge about human fertility is important information that enables reproductive-aged women and men to make informed decisions and plans about reproduction and empowers them to seek appropriate and timely health services (e.g., family planning, related preventive healthcare, or infertility assessment) to achieve those plans. OPA requires high-quality information on the fertility knowledge and related behaviors of U.S. adolescents and young adults to inform Title X policies and strategies that aim to close knowledge gaps, enhance reproductive life planning, and increase access to appropriate and evidence-informed care.

The Fertility Knowledge Survey will be administered once to each respondent. Respondents will include English-speaking females and males, aged 15 to 29 years, who are able to get pregnant or father a child, respectively. This study will rely on a web survey to be self-administered at home on personal computers, tablets, or phones. A web survey has numerous methodological advantages, including increased accuracy in measurement of key variables of interest, and reduced burden on study participants. Respondents in this study will be members of the general public. This collection will not involve small business or small entities.

The estimated annualized hour burden of responding to this information collection is 1,333 hours, or a weighted average of 20 minutes (.33 hours) per respondent. The hour-burden estimate includes the time spent by a respondent to read the email invitation, review the online consent or assent (minor), and complete the survey. Participation is voluntary and there are no costs to respondents other than their time. OMB approval is requested for three years.

Annualized Burden Hour Table
Forms (if necessary) | Respondents (if necessary) | Number of respondents | Number of responses per respondents | Average burden per response | Total burden hours
Fertility Knowledge Survey | General Public, aged 15 to 29 years | 4,000 | 1 | 20/60 | 1,333
Total |  |  | 4,000 |  | 1,333

Dated: September 27, 2018.
Terry Clark,
Paperwork Reduction Act Reports Clearance Officer, Office of the Secretary.

[FR Doc. 2018-21520 Filed 10-2-18; 8:45 am]

BILLING CODE 4150-34-P